FEDERAL COMMUNICATIONS COMMISSION

Public Information Collection(s) Requirement Submitted to OMB for Emergency Review and Approval

September 14, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 20, 2004. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via internet at Kristy_L._LaLonde@omb.eop.gov, and Judith B. Herman, Federal Communications Commission, Room 1-C804, 445 12th Street, SW., Washington, DC 20554 or via Internet to Judith-B.Herman@fcc.gov.

FOR FURTHER INFORMATION CONTACT: For additional information or copies of the information collections contact Judith B. Herman at 202-418-0214 or via Internet at Judith-B.Herman@fcc.gov.

SUPPLEMENTARY INFORMATION: The Commission has requested emergency OMB processing review of this new information collection with an OMB approval by September 30, 2004.

OMB Control Number: 3060-1042.

Title: Request for Technical Support—Help Request Form.

Form No.: N/A.

Type of Review: Revision of a currently approved collection.

Respondents: Individuals or households, business or other for-profit, not-for-profit institutions, and state, local and tribal government.

Number of Respondents: 36,300.

Estimated Time Per Response: 8 minutes.

Frequency of Response: On occasion reporting requirement and recordkeeping requirement.

Total Annual Burden: 4,840 hours.

Total Annual Cost: $387,200.

Privacy Act Impact Assessment: Yes.

Needs and Uses: The FCC's Wireless Telecommunications Bureau (WTB) maintains Internet software used by the public to apply for licenses, participate in auctions for spectrum, and maintain license information. In this mission, theWTB has a “help desk” that answers questions related to these systems as well as resetting and/or issuing user passwords for access to these systems. Currently, people call the WTB Support Center, submit requests for help via free-form emails, or submit requests via a form on the FCC Web site (http://esupport.fcc.gov/request.htm). This submission is a revision of this form to replace all free-form emails by collecting the information required by the WT B to answer and process these requests for support. Specifically, this collection is revised to increase the target audience to include inquiries received through the Bureau's call center and Web site email address. The form will collect contact information to follow up on the request if more information is needed and will facilitate processing requests. This form will also electronically categorize requests to allow for more efficient skill routing internally and continuing streamlining processes within the Commission. This will increase the speed of disposal of these requests.

Federal Communications Commission.
Marlene H. Dortch,
Secretary.

[FR Doc. 04-21085 Filed 9-17-04; 8:45 am]

BILLING CODE 6712-01-P